DEPARTMENT OF TRANSPORTATION

Research and Special Programs Administration

Office of Hazardous Materials Safety; Notice of Applications for Modification of Exemption

AGENCY: Research and Special Programs Administration, DOT.

ACTION: List of applications for modification of exemption.

SUMMARY: In accordance with the procedures governing the application for, and the processing of, exemptions from the Department of Transportation's Hazardous Material Regulations (49 CFR Part 107, Subpart B), notice is hereby given that the Office of Hazardous Materials Safety has received the application described herein. This notice is abbreviated to expedite docketing and public notice. Because the sections affected, modes of transportation, and the nature of application have been shown in earlier Federal Register publications, they are not repeated here. Request of modifications of exemptions (e.g. to provide for additional hazardous materials, packaging design changes, additional mode of transportation, etc.) are described in footnotes to the application number. Application numbers with the suffix “M” denote a modification request. There applications have been separated from the new application for exemption to facilitate processing.

DATES: Comments must be received on or before December 8, 2004.

Address Comments To: Record Center, Research and Special Programs Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street SW., Washington DC or at http://dms.dot.gov.

This notice of receipt of applications for modification of exemption is published in accordance with Part 107 of the Federal hazardous materials transportation law (49 U.S.C. 5117(b); 49 CFR 1.53(b)).

Issued In Washington, DC, on November 16, 2004.
R. Ryan Posten,
Exemptions Program Officer, Office of Hazardous Materials Exemptions & Approvals.

Modification Exemptions
Application number | Docket number | Applicant | Regulation(s) affected | Modification of exemption | Nature of exemption thereof
10798-M |  | Olin Corporation Cleveland, TN | 49 CFR 174.67(i), (j) | 10798 | To modify the exemption to authorize the transportation of an additional Class 8 material in DOT Specification tank cars.
10985-M |  | Georgia-Pacific Corporation Atlanta, GA | 49 CFR 174.67(i), (j) | 10985 | To modify the exemption to authorize the transportation of Class 3, Division 6.1 and additional Class 8 materials in DOT Specification tank cars.
12274-M | RSPA-99-5707 | Snow Peak USA, Inc. Clackamas, OR | 49 CFR 173.304(a)(d)(3)(ii) | 12274 | To modify the exemption to authorize the transportation of an additional Division 2.1 material in non-DOT specification nonrefillable inside containers.
12783-M | RSPA-01-10309 | CryoSurgery, Inc. Nashville, TN | 49 CFR 173.304a(a)(1); 173.306(a) | 12783 | To modify the exemption to allow up to 18 oz. non-DOT specification nonrefillable containers be filled to 55% filling density for the transportation of ORM-D materials.
12920-M | RSPA-02-11638 | Epichem, Inc. Haverhill, MA | 49 CFR 173.181(c) | 12920 | To modify the exemption to authorize the transportation of an additional Division 4.2 material in combination packagings with inner containers that exceed currently authorized quantities.
12988-M | RSPA-02-12215 | Air Products and Chemicals, Inc. Allentown, PA | 49 CFR 173.304; 179.300 | 12988 | To modify the exemption to update the non-DOT specification design drawings, the material of construction requirements and the minimum burst pressure from 249 bar to 240 bar.
13182-M | RSPA-02-14023 | Cytec Industries Inc. West Paterson, NJ | 49 CFR 173.304a(b) | 13182 | To modify the exemption to authorize domestic distribution of DOT Specification cylinders containing a certain Division 2.3 material filled to liquid full at 130 degrees F.
13208-M | RSPA-03-14944 | Provensis Limited, Keaton House | 49 CFR 171.11(d)(7) and (14); 171.12(b)(17); 173.302(a)(1); Part 174; Part 177; | 13208 | To modify the exemption to authorize the transportation of an additional Division 2.2 material in DOT Specification 2Q containers and relief from certain operational controls and modal requirements.
13344-M | RSPA-04-16868 | Precision Technik Atlanta, GA | 49 CFR 173.301(a)(d)(1); 180.209; 173.201; 173.202; 173.203; 173.302; 173.304 | 13344 | To modify the exemption to authorize the addition of a bottom liquid drain valve and rail mount brackets to the non-DOT specification salvage cylinder.
13565-M | RSPA-04-17863 | H.C. Starck, Inc. Newton, MA | 49 CFR 173.211 | 13565 | To reissue the exemption originally issued on an emergency basis for the transportation of Division 4.3 material in alternative packaging (an accumulator).
13601-M | RSPA-04-18713 | DS Containers, Inc. Lemont, IL | 49 CFR 173.306(b)(1); 175.3 | 13601 | To modify the exemption to authorize a pressure relief device in the bottom end of the non-DOT specification inner nonrefillable metal container with a venting pressure not below 175 psi.

[FR Doc. 04-25888 Filed 11-22-04; 8:45 am]

BILLING CODE 4909-60-M